DEPARTMENT OF ENERGY

Federal Energy Regulatory Commission

Combined Notice of Filings

Take notice that the Commission has received the following Natural Gas Pipeline Rate and Refund Report filings:

Filings Instituting Proceedings

Docket Numbers: RP13-725-000.

Applicants: Panhandle Eastern Pipe Line Company, LP.

Description: Flow Through of Cash-Out Revenues filed on 3-28-13.

Filed Date: 3/28/13.

Accession Number: 20130328-5022.

Comments Due: 5 p.m. ET 4/9/13.

Docket Numbers: RP13-726-000.

Applicants: Panhandle Eastern Pipe Line Company, LP.

Description: Flow Through of Penalty Revenues Report filed on 3-28-13.

Filed Date: 3/28/13.

Accession Number: 20130328-5023.

Comments Due: 5 p.m. ET 4/9/13.

Docket Numbers: RP13-727-000.

Applicants: Vector Pipeline L.P.

Description: Annual Fuel Use Report of Vector Pipeline L.P.

Filed Date: 3/28/13.

Accession Number: 20130328-5029.

Comments Due: 5 p.m. ET 4/9/13.

Docket Numbers: RP13-728-000.

Applicants: ANR Storage Company.

Description: Tenaska Gas Storage Agmt to be effective 4/1/2013.

Filed Date: 3/28/13.

Accession Number: 20130328-5032.

Comments Due: 5 p.m. ET 4/9/13.

Docket Numbers: RP13-729-000.

Applicants: Gulf Crossing Pipeline Company LLC.

Description: Cap Rel Neg Rate Agmt Filing (Vanguard 597, 598 to Tenaska 860, 861) to be effective 4/1/2013.

Filed Date: 3/28/13.

Accession Number: 20130328-5035.

Comments Due: 5 p.m. ET 4/9/13.

Docket Numbers: RP13-730-000.

Applicants: Texas Gas Transmission, LLC.

Description: Amendment to Non-conforming Agreement (MacQuarie Cook 26833) to be effective 4/1/2013.

Filed Date: 3/28/13.

Accession Number: 20130328-5036.

Comments Due: 5 p.m. ET 4/9/13.

Docket Numbers: RP13-731-000.

Applicants: Gulf South Pipeline Company, LP.

Description: Amendment to Neg Rate Agmt (Devon 34694-46) to be effective 4/1/2013.

Filed Date: 3/28/13.

Accession Number: 20130328-5037.

Comments Due: 5 p.m. ET 4/9/13.

Docket Numbers: RP13-732-000.

Applicants: Natural Gas Pipeline Company of America.

Description: Interstate Power Negotiated Rate to be effective 4/1/2013.

Filed Date: 3/28/13.

Accession Number: 20130328-5066.

Comments Due: 5 p.m. ET 4/9/13.

Docket Numbers: RP13-733-000.

Applicants: Elba Express Company, L.L.C.

Description: Annual Interruptible Revenue Crediting Report of Elba Express Company, L.L.C.

Filed Date: 3/28/13.

Accession Number: 20130328-5073.

Comments Due: 5 p.m. ET 4/9/13.

Docket Numbers: RP13-734-000.

Applicants: Carolina Gas Transmission Corporation.

Description: Rainbow Non-Conforming Agreement Tariff Filing to be effective 5/1/2013.

Filed Date: 3/28/13.

Accession Number: 20130328-5104.

Comments Due: 5 p.m. ET 4/9/13.

Docket Numbers: RP13-735-000.

Applicants: Natural Gas Pipeline Company of America.

Description: Nicor Negotiated Rate to be effective 4/1/2013.

Filed Date: 3/28/13.

Accession Number: 20130328-5116.

Comments Due: 5 p.m. ET 4/9/13.

Docket Numbers: RP13-736-000.

Applicants: Fayetteville Express Pipeline LLC.

Description: FEP 2013 Hub Area—Point Addition Filing to be effective 5/1/2013.

Filed Date: 3/28/13.

Accession Number: 20130328-5136.

Comments Due: 5 p.m. ET 4/9/13.

Docket Numbers: RP13-737-000.

Applicants: Rockies Express Pipeline LLC.

Description: Annual Incidental Purchase and Sales Report of Rockies Express Pipeline LLC.

Filed Date: 3/28/13.

Accession Number: 20130328-5137.

Comments Due: 5 p.m. ET 4/9/13.

Docket Numbers: RP13-738-000.

Applicants: Pine Needle LNG Company, LLC.

Description: 2013 Annual Fuel and Electric Power Tracker Filing to be effective 5/1/2013.

Filed Date: 3/28/13.

Accession Number: 20130328-5140.

Comments Due: 5 p.m. ET 4/9/13.

Docket Numbers: RP13-739-000.

Applicants: UGI Storage Company.

Description: UGI Storage Compliance Filing TL-96 to be effective 4/1/2013.

Filed Date: 3/28/13.

Accession Number: 20130328-5161.

Comments Due: 5 p.m. ET 4/9/13.

Docket Numbers: RP13-740-000.

Applicants: Columbia Gulf Transmission, LLC.

Description: Negotiated Rate Service Agreement—BG Energy Merchants—140986 to be effective 4/1/2013.

Filed Date: 3/28/13.

Accession Number: 20130328-5191.

Comments Due: 5 p.m. ET 4/9/13.

Docket Numbers: RP13-741-000.

Applicants: Iroquois Gas Transmission System, L.P.

Description: 03/28/13 Negotiated Rates—United Energy Trading, LLC (RTS) 5095-18 & 19 to be effective 4/1/2013.

Filed Date: 3/28/13.

Accession Number: 20130328-5211.

Comments Due: 5 p.m. ET 4/9/13.

Docket Numbers: RP13-742-000.

Applicants: Iroquois Gas Transmission System, L.P.

Description: 03/28/13 Negotiated Rates—JP Morgan Ventures Energy Corp. (RTS) 6025-44 & 45 to be effective 4/1/2013.

Filed Date: 3/28/13.

Accession Number: 20130328-5214.

Comments Due: 5 p.m. ET 4/9/13.

Docket Numbers: RP13-743-000.

Applicants: ANR Pipeline Company.

Description: DTCA 2013 to be effective 5/1/2013.

Filed Date: 3/28/13.

Accession Number: 20130328-5215.

Comments Due: 5 p.m. ET 4/9/13.

Docket Numbers: RP13-745-000.

Applicants: Natural Gas Pipeline Company of America.

Description: Penalty Revenue Crediting Report of Natural Gas Pipeline Company of America LLC.

Filed Date: 3/28/13.

Accession Number: 20130328-5246.

Comments Due: 5 p.m. ET 4/9/13.

Docket Numbers: RP13-746-000.

Applicants: TC Offshore LLC.

Description: TC Offshore LLC Transporter's Use Report for 2012.

Filed Date: 3/28/13.

Accession Number: 20130328-5247.

Comments Due: 5 p.m. ET 4/9/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-431-001.

Applicants: Dominion Transmission, Inc.

Description: DTI—Compliance Filing—Reservation Charge Crediting to be effective 3/1/2013.

Filed Date: 3/28/13.

Accession Number: 20130328-5143.

Comments Due: 5 p.m. ET 4/9/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated March 29, 2013.
Nathaniel J. Davis, Sr.,
Deputy Secretary.

[FR Doc. 2013-08057 Filed 4-5-13; 8:45 am].

BILLING CODE 6717-01-P